DEPARTMENT OF HEALTH AND HUMAN SERVICES

Food and Drug Administration

[FDA 225-06-8000]

Confidentiality Arrangement Between the United States Food and Drug Administration and the French Health Products Safety Agency

AGENCY: Food and Drug Administration, HHS.

ACTION: Notice.

SUMMARY: The Food and Drug Administration (FDA) is providing notice of a confidentiality arrangement between the United States Food and Drug Administration and the French Health Products Safety Agency. The purpose of this confidentiality arrangement is to establish mutual commitments to retain the confidentiality of non-public information shared between the agencies.

DATES: The agreement became effective February 8, 2006.

FOR FURTHER INFORMATION CONTACT: Matthew E. Eckel, Office of International Programs (HFG-1), Food and Drug Administration, 5600 Fishers Lane, Rockville MD, 20857, 301-827-4480, FAX: 301-480-0716.

SUPPLEMENTARY INFORMATION: In accordance with 21 CFR 20.108(c), which states that all written agreements and understandings between FDA and others shall be published in the Federal Register, the agency is publishing notice of this confidentiality arrangement.

Dated: March 7, 2006.
Jeffrey Shuren,
Assistant Commissioner for Policy.

BILLING CODE 4160-01-S

[FR Doc. 06-2539 Filed 3-15-06; 8:45 am]

BILLING CODE 4160-01-C